DEPARTMENT OF HOUSING AND URBAN DEVELOPMENT

[FR-6280-D-02]

Order of Succession for the Office of Field Policy and Management

AGENCY: Office of Field Policy and Management, HUD.

ACTION: Notice of order of succession.

SUMMARY: In this notice, the Assistant Deputy Secretary for Field Policy and Management for the Department of Housing and Urban Development designates the Order of Succession for the Office of Field Policy and Management. This Order of Succession supersedes all prior orders of succession for the Office of Field Policy and Management, including the Order of Succession published in the Federal Register on October 19, 2012.

DATES: Applicable Date: August 31, 2021.

FOR FURTHER INFORMATION CONTACT: John B. Shumway, Assistant General Counsel, Administrative Law Division, Department of Housing and Urban Development, at 451 7th Street SW, Room 9262; Washington, DC 20410- 0500 or telephone number 202-402- 5190 (this is not a toll-free number). Persons with hearing or speech impairments may access this number through TTY by calling the Federal Relay Service at 800-877-8339 (this is a toll-free number).

SUPPLEMENTARY INFORMATION: The Assistant Deputy Secretary for Field Policy and Management for the Department of Housing and Urban Development is issuing this Order of Succession of officials authorized to perform the functions and duties of the Office of Field Policy and Management when, by reason of absence, disability, or vacancy in office, the Assistant Deputy Secretary for Field Policy and Management is not available to exercise the powers or perform the duties of the office. This Order of Succession is subject to the provisions of the Federal Vacancies Reform Act of 1998 (5 U.S.C. 3345-3349d). This publication supersedes all prior Orders of Succession for the Office of Field Policy and Management, including the Order of Succession published in the Federal Register on October 19, 2012 (77 FR 64394).

Accordingly, the Assistant Deputy Secretary for Field Policy and Management designates the following Order of Succession:

Section A. Order of Succession

Subject to the provisions of the Federal Vacancies Reform Act of 1998, during any period when, by reason of absence, disability, or vacancy in office, the Assistant Deputy Secretary for Field Policy and Management for the Department of Housing and Urban Development is not available to exercise the powers or perform the duties of the Assistant Deputy Secretary, the following officials within the Office of Field Policy and Management are hereby designated to exercise the powers and perform the duties of the Office. No individual who is serving in an office listed below in an acting capacity may act as the Assistant Deputy Secretary for Field Policy and Management pursuant to this Order of Succession.

(1) Director for Field Policy and Management;

(2) Deputy Director for Field Policy and Management;

(3) Director of Field Operations and Support; and

(4) Regional Administrator, HUD Region V.

These officials shall perform the functions and duties of the office in the order specified herein, and no official shall serve unless all the other officials, whose position titles precede his/hers in this order, are unable to act by reason of absence, disability, or vacancy in office.

Section B. Authority Superseded

This Order of Succession supersedes all prior Orders of Succession for the Office of Field Policy and Management, including the Order of Succession published in the Federal Register on October 19, 2012 (77 FR 64394).

Authority: Section 7(d), Department of Housing and Urban Development Act, 42 U.S.C. 3535(d).

Michele Perez,
Assistant Deputy Secretary for Field Policy and Management.

[FR Doc. 2021-18720 Filed 8-30-21; 8:45 am]

BILLING CODE 4210-67-P